NUCLEAR REGULATORY COMMISSION

Advisory Committee on Reactor Safeguards; Meeting Notice

In accordance with the purposes of sections 29 and 182b. of the Atomic Energy Act (42 U.S.C. 2039, 2232b), the Advisory Committee on Reactor Safeguards will hold a meeting on June 7-9, 2000, in Conference Room T-2B3, 11545 Rockville Pike, Rockville, Maryland. The date of this meeting was previously published in the Federal Register on Thursday, October 14, 1999 (64 FR 55787).

Wednesday, June 7, 2000

8:30 A.M.-8:35 A.M.: Opening Remarks by the ACRS Chairman (Open)—The ACRS Chairman will make opening remarks regarding the conduct of the meeting.

8:35 A.M.-10:00 A.M.: Proposed Resolution of Generic Safety Issue-173A, “Spent Fuel Storage Pool for Operating Facilities” (Open)—The Committee will hear presentations by and hold discussions with representatives of the NRC staff regarding the proposed resolution of Generic Safety Issue-173A.

10:15 A.M.-11:45 A.M.: Regulatory Effectiveness of the Station Blackout Rule (Open)—The Committee will hear presentations by and hold discussions with representatives of the NRC staff regarding the results of the review performed by the staff to determine the regulatory effectiveness of the Station Blackout Rule.

12:45 P.M.-2:15 P.M.: Proposed Final Standard Review Plan Section and Regulatory Guide Associated with the Revised Source Term Rule (Open)—The Committee will hear presentations by and hold discussions with representatives of the NRC staff regarding the proposed final Standard Review Plan Section and Regulatory Guide associated with the application of the revised source term for operating nuclear power plants.

2:30 P.M.-4:30 P.M.: Assessment of the Quality of Probabilistic Risk Assessments (PRAs) (Open)—The Committee will hear presentations by and hold discussions with representatives of the NRC staff regarding the staff's proposal to address PRA quality until the industry standards have been completed, including the potential role of industry PRA certification process.

4:30 P.M.-5:30 P.M.: Break and Preparation of Draft ACRS Reports (Open)—Cognizant ACRS members will prepare draft reports, as needed, for consideration by the full Committee. 5:30 P.M.-7:00 P.M. : Discussion of Proposed ACRS Reports (Open)—The Committee will discuss proposed ACRS reports on matters considered during this meeting.

Thursday, June 8, 2000

8:30 A.M.-8:35 A.M.: Opening Remarks by the ACRS Chairman (Open)—The ACRS Chairman will make opening remarks regarding the conduct of the meeting.

8:35 A.M.-10:00 A.M.: Performance-Based Regulatory Initiatives (Open)—The Committee will hear presentations by and hold discussions with representatives of the NRC staff regarding a draft Commission Paper associated with performance-based regulatory initiatives and related matters.

10:15 A.M.-11:30 A.M.: Use of Industry Initiatives in the Regulatory Process (Open)—The Committee will hear presentations by and hold discussions with representatives of the NRC staff regarding use of industry initiatives in the regulatory process.

11:30 A.M.-12:00 Noon: Safety Culture at Operating Nuclear Power Plants (Open)—The Committee will hear a presentation by and hold discussions with Mr. Sorensen, ACRS Senior Fellow, regarding the safety culture at operating nuclear power plants.

1:00 P.M.-1:30 P.M.: Visit to Davis Besse Nuclear Power Plant and Meeting with NRC Region III Personnel (Open)—The Committee will hear a presentation by and hold discussions with Mr. Singh, ACRS Senior Staff Engineer, regarding the proposed schedule for touring the Davis Besse Nuclear Power Plant, specific plant areas to be visited, proposed topics for discussion with representatives of the licensee, and the NRC Region III Office.

1:30 P.M.-2:00 P.M.: Proposed Plan and Assignments for Reviewing License Renewal Guidance Documents (Open)—The Committee will discuss the proposed plan and member assignments for reviewing the license renewal guidance documents (Standard Review Plan, Regulatory Guide, and Generic Aging Lessons Learned II Report).

2:00 P.M.-2:15 P.M.: Reconciliation of ACRS Comments and Recommendations (Open)—The Committee will discuss the responses from the NRC Executive Director for Operations (EDO) to comments and recommendations included in recent ACRS reports and letters. The EDO responses are expected to be made available to the Committee prior to the meeting.

2:15 P.M.-3:00 P.M.: Future ACRS Activities/Report of the Planning and Procedures Subcommittee (Open)—The Committee will discuss the recommendations of the Planning and Procedures Subcommittee regarding items proposed for consideration by the full Committee during future meetings. Also, it will hear a report of the Planning and Procedures Subcommittee on matters related to the conduct of ACRS business, and organizational and personnel matters relating to the ACRS.

3:00 P.M.-4:00 P.M.: Break and Preparation of Draft ACRS Reports (Open)—Cognizant ACRS members will prepare draft reports, as needed, for consideration by the full Committee.

4:00 P.M.-7:00 P.M.: Discussion of Proposed ACRS Reports (Open)—The Committee will discuss proposed ACRS reports.

Friday, June 9, 2000

8:30 A.M.-2:30 P.M.: Discussion of Proposed ACRS Reports (Open)—The Committee will continue its discussion of proposed ACRS reports.

2:30 P.M.-3:00 P.M.: Miscellaneous (Open)—The Committee will discuss matters related to the conduct of Committee activities and matters and specific issues that were not completed during previous meetings, as time and availability of information permit.

Procedures for the conduct of and participation in ACRS meetings were published in the Federal Register on September 28, 1999 (64 FR 52353). In accordance with these procedures, oral or written views may be presented by members of the public, including representatives of the nuclear industry. Electronic recordings will be permitted only during the open portions of the meeting and questions may be asked only by members of the Committee, its consultants, and staff. Persons desiring to make oral statements should notify Mr. Sam Duraiswamy, ACRS, five days before the meeting, if possible, so that appropriate arrangements can be made to allow necessary time during the meeting for such statements. Use of still, motion picture, and television cameras during this meeting may be limited to selected portions of the meeting as determined by the Chairman. Information regarding the time to be set aside for this purpose may be obtained by contacting Mr. Sam Duraiswamy prior to the meeting. In view of the possibility that the schedule for ACRS meetings may be adjusted by the Chairman as necessary to facilitate the conduct of the meeting, persons planning to attend should check with Mr. Sam Duraiswamy if such rescheduling would result in major inconvenience.

Further information regarding topics to be discussed, whether the meeting has been canceled or rescheduled, the Chairman's ruling on requests for the opportunity to present oral statements and the time allotted therefor, can be obtained by contacting Mr. Sam Duraiswamy (telephone 301/415-7364), between 7:30 a.m. and 4:l5 p.m., EDT.

ACRS meeting agenda, meeting transcripts, and letter reports are available for downloading or viewing on the internet at http://www.nrc.gov/ACRSACNW.

Videoteleconferencing service is available for observing open sessions of ACRS meetings. Those wishing to use this service for observing ACRS meetings should contact Mr. Theron Brown, ACRS Audio Visual Technician (301-415-8066), between 7:30 a.m. and 3:45 p.m., EDT, at least 10 days before the meeting to ensure the availability of this service. Individuals or organizations requesting this service will be responsible for telephone line charges and for providing the equipment facilities that they use to establish the videoteleconferencing link. The availability of videoteleconferencing services is not guaranteed.

Dated: May 18, 2000.
Andrew L. Bates,
Advisory Committee Management Officer.

[FR Doc. 00-13060 Filed 5-23-00; 8:45 am]

BILLING CODE 7590-01-P